DEPARTMENT OF LABOR

Pension and Welfare Benefits Administration

[Exemption Application No. D-10949]

Kimball International, Inc. Retirement Plan (the Plan)

AGENCY: Pension and Welfare Benefits Administration, Department of Labor (the Department).

ACTION: Notice of technical correction.

On January 9, 2002 (67 FR 1242), the Department published in the Federal Register an exemption (the Exemption) from the prohibited transaction restrictions of the Employee Retirement Income Security Act of 1974 and from certain taxes imposed by the Internal Revenue Code of 1986, which would allow the sale by the Plan of stock of SVB&T Corporation.

The Department notes that in the second column, in the first paragraph of the Exemption on page 1246 of the Federal Register the operative language should read as follows: “The restrictions of sections 406(a), 406(b)(1) and (b)(2) of the Act and the sanctions resulting from the application of section 4975 of the Code, by reason of section 4975(c)(1)(A) through (E) of the Code, shall not apply to the proposed sale (the Sale) by the Plan of stock (the Shares) of SVB&T Corporation (Springs Valley) to Springs Valley, the parent company of the Plan trustee, Springs Valley Bank & Trust, and a party in interest with respect to the Plan, provided that the following conditions are met.”

The Department hereby amends the Exemption to incorporate such change.

FOR FURTHER INFORMATION CONTACT: Mr. Khalif Ford of the Department at (202) 693-8540. (This is not a toll-free number.)

Signed at Washington, DC, this 20th day of February, 2002.
Ivan L. Strasfeld,
Director of Exemption, Determinations, Pension and Welfare Benefits Administration, Department of Labor.

[FR Doc. 02-4500 Filed 2-25-02; 8:45 am]

BILLING CODE 4520-29-P